SMALL BUSINESS ADMINISTRATION

National Small Business Development Center Advisory Board; Public Meeting

The U.S. Small Business Administration (SBA), National Small Business Development Center Advisory Board will host a public meeting via conference call on Tuesday, July 18, 2006 at 1 p.m. (EST). The purpose of this meeting is to discuss follow-up items regarding the site visits to the SBA San Diego and Los Angeles Small Business Development Center networks, and the Board meeting that was held on Monday, June 26, 2006.

Anyone wishing to make an oral presentation to the Board must contact Erika Fischer, Senior Program Analyst, U.S. Small Business Administration, Office of Small Business Development Centers, 409 3rd Street, SW., Washington, DC 20416, telephone (202) 205-7045 or fax (202) 481-0681.

Matthew K. Becker,
Committee Management Officer.

[FR Doc. E6-10628 Filed 7-6-06; 8:45 am]

BILLING CODE 8025-01-P